DEPARTMENT OF AGRICULTURE

Forest Service

Post Fire Vegetation and Fuels Management Project, Beaverhead-Deerlodge National Forest, Beaverhead and Deerlodge Counties, MT

AGENCY: Forest Service, USDA.

ACTION: Notice, intent to prepare an environmental impact statement.

SUMMARY: The Forest Service will prepare an environmental impact statement to document the analysis and disclose the environmental impacts of proposed hazardous fuels reduction, bark beetle sanitation, and the maintenance and/or restoration of vegetative communities (willow bottoms, mature riparian spruce, and mature Douglas-fir) on approximately 1500 acres in the areas burned by the Mussigbrod and Middlefork fires of 2000 in the Beaverhead-Deerlodge National Forest. The project area is located within the Wisdom and Pintler Ranger Districts of the Beaverhead-Deerlodge National Forest in Beaverhead and Deerlodge Counties, Montana. The Mussigbrod fire complex burned approximately 59,000 acres within the Big Hole River watershed, including Trail, Prairie, Tie, Johnson, Bender, Mussigbrod, Plimpton, and Pintler Creeks. The Middle Fork fire complex burned approximately 18,000 acres in 11 areas in the Rock Creek watershed, including the Middle Fork, Rock Fork, and West Fork sub basins.

The decision to be made is the amount of hazardous fuels reduction, bark beetle sanitation (harvest and nonharvest methods), and willow regeneration treatments to implement.

DATES: Initial comments concerning the scope of the analysis should be received in writing no later than March 4, 2002.

ADDRESSES: The responsible official is Forest Supervisor Janette Kaiser, Beaverhead-Deerlodge National Forest, Dillon, Montana. Please send comments to Janette Kaiser, Beaverhead-Deerlodge National Forest, 420 Barrett Street, Dillon, MT 59725. Comments may be electronically submitted to rl_b-d_comments@fs.fed.us.

FOR FURTHER INFORMATION CONTACT: Amy Nerbun, ID Team Leader, Beaverhead-Deerlodge National Forest, 420 Barrett Street, Dillon, MT 59725, or phone (406) 683-3948, or by e-mail to anerbun@fs.fed.us.

SUPPLEMENTARY INFORMATION: The purpose of this project is to reduce hazardous fuels, limit potential for extreme bark beetle damage in selected important areas, and promote willow regeneration in areas historically occupied by willow. Treatments are proposed on approximately 1400 acres in the Mussigbrod complex, and 100 acres in the Middle Fork complex.

Treatment activities would remove trees that pose fuels risk, pose the greatest risk to harboring beetle broods, and impede natural recovery of historic vegetative communities (i.e. willow bottoms). Treatment in roadless areas will be limited to use of anti-aggregation pheromones (such as MCH) to reduce the likelihood of beetle attacks.

Public participation is important to this analysis. Part of the goal of public involvement is to identify additional issues and to refine general issues. A scoping notice was mailed to the public on September 24, 2001. Twenty-eight responses were received Fifteen people/organizations provided written comments. Preliminary issues identified were:

1. Bark Beetle Risk. Bark beetle populations and beetle-caused tree mortality are expected to increase due to extensive areas of fire-stressed trees that provide ideal bark beetle habitat. There is a high probability that bark beetle populations will increase and expand and kill trees in unburned areas.

2. Continuous heavy fuel loads within the Mussigbrod fire area and adjacent to private lands influence the ability to control wildfire safely and effectively.

3. Historic vegetative composition and structure. Heavy fuels accumulation and bark beetle related tree mortality could impede maintenance and/or natural regeneration of suppressed willow, riparian spruce, and large-diameter Douglas-fir.

Many comments received during scoping centered on impacts to water quality, soils, and wildlife. Although theses issues were not identified as key issues (i.e. they did not drive an alternative), they did have bearing on the alternatives developed, and played a key role in the development of mitigation measures.

The interdisciplinary team developed four alternatives to the proposed action, which vary by the amounts and types of treatment proposed. The analysis will consider all reasonably foreseeable activities.

People may visit with Forest Service officials at any time during the analysis and prior to the decision. Two periods are specifically designated for comments on the analysis: (1) during the scoping process, and (2) during the draft EIS period.

During the scoping process, the Forest Service seeks additional information and comments from individuals or organizations that may be interested in or affected by the proposed action, and federal, and state, and local agencies. The Forest Service invites written comments and suggestions on this action, particularly in terms of issues and alternative development.

The draft EIS is anticipated to be available for review in March, 2002. The final EIS is planned for completion in June, 2002.

The Environmental Protection Agency will publish the Notice of Availability of the draft Environmental Impact Statement in the Federal Register. The Forest will also publish a legal notice of its availability in the Montana Standard Newspaper, Butte, Montana. A 45-day comment period on the draft EIS will begin the day after the legal notice is published.

The Forest Service believes, at this early stage, it is important to give reviewers notice of several court rulings related to public participation in the environmental review process. First, reviewers of draft environmental impact statement must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, applicable laws, regulations, and policies. The decision and reasons for the decision will be documented in a Record of Decision.

Dated: January 23, 2002.
Peri Suenram,
Acting Forest Supervisor.

[FR Doc. 02-2181 Filed 1-29-02; 8:45 am]

BILLING CODE 3410-11-M